DEPARTMENT OF ENERGY

Federal Energy Regulatory Commission

Combined Notice of Filings

Take notice that the Commission has received the following Natural Gas Pipeline Rate and Refund Report filings:

Filings Instituting Proceedings

Docket Numbers: RP25-753-000.

Applicants: Sabine Pipe Line LLC.

Description: 4(d) Rate Filing: Normal filing Mar 2025-7.26-4.12 to be effective 4/1/2025.

Filed Date: 3/27/25.

Accession Number: 20250327-5173.

Comment Date: 5 p.m. ET 4/8/25.

Docket Numbers: RP25-754-000.

Applicants: Iroquois Gas Transmission System, L.P.

Description: 4(d) Rate Filing: 3.27.25 Negotiated Rates—NRG Business Marketing LLC R-7465-02 to be effective 4/1/2025.

Filed Date: 3/27/25.

Accession Number: 20250327-5233.

Comment Date: 5 p.m. ET 4/8/25.

Docket Numbers: RP25-755-000.

Applicants: Kern River Gas Transmission Company.

Description: Annual Gas Compressor Fuel Report of Kern River Gas Transmission Company.

Filed Date: 3/28/25.

Accession Number: 20250328-5107.

Comment Date: 5 p.m. ET 4/9/25.

Docket Numbers: RP25-756-000.

Applicants: Northern Natural Gas Company.

Description: 4(d) Rate Filing: 20250328 Negotiated Rate to be effective 3/31/2025.

Filed Date: 3/28/25.

Accession Number: 20250328-5197.

Comment Date: 5 p.m. ET 4/9/25.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

Filings in Existing Proceedings

Docket Numbers: PR25-27-001.

Applicants: Southern California Gas Company.

Description: 284.123(g) Rate Filing: Amendment to Previous Statutory Filing to be effective 1/1/2025.

Filed Date: 3/27/25.

Accession Number: 20250327-5206.

Comment Date: 5 p.m. ET 4/17/25.

Docket Numbers: PR25-36-001.

Applicants: Southern California Gas Company.

Description: 284.123(g) Rate Filing: Amendment to Previous Statutory Filing to be effective 2/1/2025.

Filed Date: 3/27/25.

Accession Number: 20250327-5269.

Comment Date: 5 p.m. ET 4/17/25.

Docket Numbers: RP24-1106-003.

Applicants: Adelphia Gateway, LLC.

Description: Compliance filing: Adelphia Gateway Section 4 Rate Case Compliance to Place Revised Rates in Effect to be effective 4/1/2025.

Filed Date: 3/28/25.

Accession Number: 20250328-5122.

Comment Date: 5 p.m. ET 4/9/25.

Docket Numbers: RP25-166-002.

Applicants: Great Lakes Gas Transmission Limited Partnership.

Description: Compliance filing: Probability of Default—Bid Posting Clarification Compliance to be effective 12/1/2024.

Filed Date: 3/27/25.

Accession Number: 20250327-5238.

Comment Date: 5 p.m. ET 4/8/25.

Docket Numbers: RP25-384-001.

Applicants: MountainWest Pipeline, LLC.

Description: Compliance filing: Order 587-AA Amended Compliance Filing to be effective 8/1/2025.

Filed Date: 3/28/25.

Accession Number: 20250328-5136.

Comment Date: 5 p.m. ET 4/9/25.

Docket Numbers: RP25-385-001.

Applicants: MountainWest Overthrust Pipeline, LLC.

Description: Compliance filing: Order 587-AA Amended Compliance Filing to be effective 8/1/2025.

Filed Date: 3/28/25.

Accession Number: 20250328-5133.

Comment Date: 5 p.m. ET 4/9/25.

Docket Numbers: RP25-386-001.

Applicants: White River Hub, LLC.

Description: Compliance filing: Order 587-AA Amended Compliance Filing to be effective 8/1/2025.

Filed Date: 3/28/25.

Accession Number: 20250328-5138.

Comment Date: 5 p.m. ET 4/9/25.

Docket Numbers: RP25-486-001.

Applicants: Panhandle Eastern Pipe Line Company, LP.

Description: Compliance filing: NAESB 4.0 Compliance—Corrected to be effective 8/1/2025.

Filed Date: 3/28/25.

Accession Number: 20250328-5165.

Comment Date: 5 p.m. ET 4/9/25.

Docket Numbers: RP25-554-001.

Applicants: WestGas InterState, Inc.

Description: Compliance filing: RP25-544-001 587-AA Compliance Correction to be effective 8/1/2025.

Filed Date: 3/28/25.

Accession Number: 20250328-5205.

Comment Date: 5 p.m. ET 4/9/25.

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organizations, Tribal members and others, access publicly available information and navigate Commission processes.

For public inquiries and assistance with making filings such as interventions, comments, or requests for rehearing, the public is encouraged to contact OPP at (202) 502-6595 or OPP@ferc.gov.

Dated: March 28, 2025.
Debbie-Anne A. Reese,
Secretary.

[FR Doc. 2025-05772 Filed 4-3-25; 8:45 am]

BILLING CODE 6717-01-P